DEPARTMENT OF DEFENSE

Department of the Navy

Notice of Closed Meeting of the Chief of Naval Operations (CNO) Executive Panel

AGENCY: Department of the Navy, DoD.

ACTION: Notice.

SUMMARY: The CNO Executive Panel will report on the findings and recommendations of the Sea Basing and Forcible Entry Subcommittee to the Chief of Naval Operations. The meeting will consist of discussions of ongoing Navy, Marine Corps, and Joint/DoD sea basing and forcible entry policies, programs, and organizational concepts to find opportunities to increase compatibility, flexibility, and buttress the Maritime Strategy.

DATES: The meeting will be held on May 8, 2008 from 10 a.m. to 12 p.m.

ADDRESSES: The meeting will be held in Boardroom at CNA Corporation Building, 4825 Mark Center Drive, Alexandria, VA 22311.

FOR FURTHER INFORMATION CONTACT: LCDR Brown, CNO Executive Panel, 4825 Mark Center Drive, Alexandria, VA 22311, telephone: 703-681-4939.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Individuals or interested groups interested may submit written statements for consideration by the Chief of Naval Operations Executive Panel at any time or in response to the agenda of a scheduled meeting. All requests must be submitted to the Designated Federal Officer at the address detailed below. If the written statement is in response to the agenda mentioned in this meeting notice then the statement, if it is to considered by the Panel for this meeting, must be received at least five days prior to the meeting in question.

The Designated Federal Officer will review all timely submissions with the Chief of Naval Operations Executive Panel Chairperson, and ensure they are provided to members of the Chief of Naval Operations Executive Panel before the meeting that is the subject of this notice.

To contact the Designated Federal Officer, write to Executive Director, CNO Executive Panel (N00K), 4825 Mark Center Drive, 2nd Floor, Alexandria, VA 22311-1846.

Dated: April 9, 2008.
T. M. Cruz,
Lieutenant, Judge Advocate General's Corps, U.S. Navy, Federal Register Liaison Officer.

[FR Doc. E8-7972 Filed 4-14-08; 8:45 am]

BILLING CODE 3810-FF-P